DEPARTMENT OF COMMERCE

National Oceanic and Atmospheric Administration

NATIONAL SCIENCE FOUNDATION

[Docket No. 0906261096-91096-01]

RIN 0648-ZC08

Comparative Analysis of Marine Ecosystem Organization (CAMEO)

AGENCIES: Fisheries Headquarters Program Office (FHQ), National Marine Fisheries Service (NMFS), National Oceanic and Atmospheric Administration (NOAA), Commerce; National Science Foundation (NSF).

ACTION: Notice of funding availability.

SUMMARY: This announcement solicits proposals for the Comparative Analysis of Marine Ecosystem Organization (CAMEO) Program which is implemented as a partnership between the NOAA National Marine Fisheries Service and National Science Foundation Division of Ocean Sciences. The purpose of CAMEO is to strengthen the scientific basis for an ecosystem approach to the stewardship of our ocean and coastal living marine resources. The program will support fundamental research to understand complex dynamics controlling ecosystem structure, productivity, behavior, resilience, and population connectivity, as well as effects of climate variability and anthropogenic pressures on living marine resources and critical habitats. CAMEO encourages the development of multiple approaches, such as ecosystem models and comparative analyses of managed and unmanaged areas (e.g., marine protected areas) that can ultimately form a basis for forecasting and decision support. Further information is available on the CAMEO web site (http://cameo.noaa.gov).

DATES: Full proposals must be received and validated by Grants.gov, postmarked, or provided to a delivery service on or before 11:59 p.m. ET, October 5, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

ADDRESSES: Electronic application packages are strongly encouraged and are available at: http://www.grants.gov/. If the applicant's only mode of submitting a proposal is via paper application, or if the applicant has difficulty accessing Grants.gov or downloading the required forms, they should contact: Lora Clarke, CAMEO, NOAA Fisheries, 1315 East-West Highway, Room 14505, Silver Spring, MD, 20910 or by phone at (301) 713-2239, or via internet at Lora.Clarke@noaa.gov.

FOR FURTHER INFORMATION CONTACT: Michael Ford, CAMEO Program Manager, NOAA/NMFS, (301) 713-2239, Michael.Ford@noaa.gov; Lora Clarke, Associate Program Manager, NOAA/NMFS, (301) 713-2239, Lora.Clarke@noaa.gov; Cynthia Suchman, Associate Program Director, Biological Oceanography, OCE/GEO/NSF, (703) 292-8582, csuchman@nsf.gov; David Garrison, Program Director, Biological Oceanography, OCE/GEO/NSF, (703) 292-8582, dgarriso@nsf.gov.

SUPPLEMENTARY INFORMATION: CAMEO will be implemented as an interagency partnership between NOAA-NMFS and NSF. The interests of these agencies overlap in funding basic scientific research that will lead to discovery and a deeper understanding of the factors controlling ecosystem dynamics, with the potential to create tools for effective living marine resource management. The first competition for the program was held in 2008, with several initial projects selected for FY2009 funding. This announcement provides guidance to researchers wishing to apply for CAMEO support in FY2010. We expect that CAMEO proposals will continue to focus on comparisons of environments where there is a rich base of environmental and biological data, where there are clear and compelling management issues, and where further research is likely to result in a deeper understanding of ecosystem processes that ultimately can lead to management tools or solutions. Projects with a strong probability of producing results that can be widely applied are likely to be most compelling. A substantial challenge is to develop research that integrates across spatial and temporal scales -- from conducting local, short-term investigations to evaluating regional, decadal processes. The over-arching goal is to produce information applicable to stocks of managed resources and ecosystems that will support management decisions. Because of their link to management, CAMEO projects must emphasize population and community processes affecting upper trophic levels and/or multi-species interactions. Proposals should not be submitted that focus on areas (such as microbial dynamics, biogeochemical cycling, and ocean acidification) that overlap existing programs within NSF and NMFS. Questions about whether proposals are appropriate for the CAMEO program should be directed to the NOAA or NSF technical contacts. As appropriate to each proposal, applicants should employ one or more of the approaches below, providing sufficient detail for critical evaluation of methodology and connection to CAMEO objectives.

1. Synthesis of existing time series and/or ongoing observation programs

Projects may draw on a wide range of existing data and observations, including historical data sets and ongoing programs. If this approach is chosen, it is expected that the project will primarily focus on the synthesis of information rather than the development or support of new observational capabilities. Any new field studies must be well justified and integrated with existing data.

2. Modeling

Modeling is likely to be an approach common to many CAMEO proposals. These efforts may range from the development of conceptual models for emergent properties such as connectivity or resilience to more specific numerical models used for ecosystem comparisons or predictions. Among the many possible modeling approaches, different models (or sets of assumptions) may be compared for the same ecosystem, or the same (or similar) models may be applied to compare different ecosystems.

3. Experimental approach

Carefully planned experiments can shed light on the mechanisms driving large-scale patterns and processes. Moreover, experiments can provide information to parameterize models, e.g., environmental tolerances and reproductive, growth, survival, and trophic transfer rates. In CAMEO, comparative experimental approaches may include traditional field, mesocosm, or laboratory experiments as well as non-traditional opportunities provided by experimental adaptive management (conducted at large spatial scales with the potential to illuminate mechanisms structuring ecosystems).

4. Human dimensions

Human activities have compounded climate-related and other environmental changes affecting marine ecosystems. In turn, human systems need to respond and adapt to changes in the availability of marine living resources and other goods and services resulting from ecosystem processes. In CAMEO, collaborations between natural and social scientists may undertake interdisciplinary comparative research on ecosystems, living resources and human interactions.

5. Taking multiple and integrative approaches

In some cases, the aim of CAMEO — to develop links between fundamental research on marine ecosystems and issues of living resources management — may be addressed effectively through integration of the above approaches. Therefore, research strategies combining approaches may provide an important contribution to the CAMEO Program.

Program Priorities:

This funding opportunity will implement CAMEO research by supporting the development of research tools and strategic approaches. The following types of proposals are encouraged:

1. Development of strategies and methodologies for comparative analyses that can be applied consistently across spatial and temporal scales and ecosystems, and that facilitate the design of decision support tools for marine populations, ecosystems and habitats.

2. Development of models that address key scientific questions by comparing ecosystems and ecosystem processes. Models that are geographically and temporally portable, and that incorporate assessment of modeling skill, are particularly encouraged.

3. Retrospective studies that analyze, re-analyze or synthesize existing information (historic, time-series, ongoing program, etc.) using a comparative approach.

4. Studies that integrate the human dimension within ecosystem dynamics. The CAMEO program seeks to promote interdisciplinary research using comparative approaches to link marine ecosystem research with the social and behavioral sciences in new and vital ways.

ELECTRONIC ACCESS:

The full text of the full funding opportunity announcement for this program can be accessed via the Grants.gov web site at http://www.grants.gov. The announcement will also be available by contacting the program officials identified under FOR FURTHER INFORMATION CONTACT. Applicants must comply with all requirements contained in the full funding opportunity announcement.

STATUTORY AUTHORITY:

Authority for CAMEO is provided by the following: 33 U.S.C. 1442 for the National Marine Fisheries Service and 42 U.S.C. 1861-75 for the National Science Foundation.

CFDA:

11.472, Unallied Science Program

FUNDING AVAILABILITY:

It is anticipated that up to $6 million will be available to support 2-3 year projects in response to this announcement

ELIGIBILITY:

Eligible applicants are U.S. institutions of higher education, other non-profits, state, local, Indian Tribal Governments, and Federal agencies that possess the statutory authority to receive financial assistance. International collaborations are encouraged, but international partners are not eligible to receive funding, including travel funds. Collaborative partnerships between academic or private researchers and NOAA scientists are highly encouraged. Federal employees are not eligible to apply for salary.

COST SHARING REQUIREMENTS:

None is required. Applicants may seek supplementary funding from other agencies or foundations (non-profits, state, local etc). Applicants are encouraged to discuss funding opportunities with these entities prior to submitting proposal applications to NOAA/NSF and should list any supplementary funding in their applications.

EVALUATION AND SELECTION PROCEDURES:

The general evaluation criteria and selection factors that apply to full applications to this funding opportunity are summarized below. Further information about the evaluation criteria and selection factors can be found in the full funding opportunity announcement.

EVALUATION CRITERIA FOR PROJECTS:

The general evaluation criteria that apply to full applications to this funding opportunity are summarized below. For the purposes of this competition, NOAA will adopt the NSF evaluation criteria. NSF merit review criteria are listed below. Following each criterion are potential considerations that the reviewer may employ in the evaluation. These are suggestions and not all will apply to any given proposal. Each reviewer will be asked to address only those that are relevant to the proposal and for which he/she is qualified to make judgments. Principal Investigators (PIs) should be aware that a component of Criterion 2 will be how well the project meets CAMEO program goals.

Criterion 1 (50%): What is the intellectual merit of the proposed activity? How important is the proposed activity to advancing knowledge and understanding within its own field or across different fields? How well qualified is the proposer (individual or team) to conduct the project? (If appropriate, the reviewer will comment on the quality of prior work.) To what extent does the proposed activity suggest and explore creative, original, or potentially transformative concepts? How well conceived and organized is the proposed activity? Is there sufficient access to resources?

Criterion 2 (50%): What are the broader impacts of the proposed activity? How well does the activity advance discovery and understanding while promoting teaching, training, and learning? How well does the proposed activity broaden the participation of underrepresented groups (e.g., gender, ethnicity, disability, geographic, etc.)? To what extent will it enhance the infrastructure for research and education, such as facilities, instrumentation, networks, and partnerships? Will the results be disseminated broadly to enhance scientific and technological understanding? What may be the benefits of the proposed activity to society? Each proposal that requests funding to support postdoctoral researchers must include a description of the mentoring activities that will be provided for such individuals. Mentoring activities provided to postdoctoral researchers supported on the project, as described in a one-page supplementary document, will be evaluated under the Broader Impacts criterion. PIs should address the following elements in their proposal to provide reviewers with the information necessary to respond fully to the above-described merit review criteria. NSF and NOAA staff will give these elements careful consideration in making funding decisions.

Integration of Research and Education: One of the principal strategies in support of NSF's goals is to foster integration of research and education through the programs, projects and activities it supports at academic and research institutions. These institutions provide abundant opportunities where individuals may concurrently assume responsibilities as researchers, educators, and students, and where all can engage in joint efforts that infuse education with the excitement of discovery and enrich research through the diversity of learning perspectives.

Integrating Diversity into NSF Programs, Projects, and Activities: Broadening opportunities and enabling the participation of all citizens -- women and men, underrepresented minorities, and persons with disabilities -- are essential to the health and vitality of science and engineering. NSF is committed to this principle of diversity and deems it central to the programs, projects, and activities it considers and supports.

REVIEW AND SELECTION PROCESS:

Proposals will be evaluated individually in accordance with the assigned weights of the above evaluation criteria by independent peer mail review and/or by independent peer panel review. Both Federal and non-Federal experts in the field may be used in this process. The peer mail reviewers have expertise in the subjects addressed by the proposals. Each mail reviewer will see only certain individual proposals within his or her area of expertise, and will score them individually on the following scale: Excellent (1), Very Good (2), Good (3), Fair (4), Poor (5). Those proposals receiving an average mail review score of “Fair” or “Poor” will not be given further consideration, in which case proposers will be notified of non selection. The peer panel will comprise 8 to 12 individuals, with each individual having expertise in a separate area, so that the panel, as a whole, covers a range of scientific expertise. The panel will have access to all mail reviews of proposals, and will use the mail reviews in discussion and evaluation of the entire slate of proposals. All proposals will be evaluated and scored individually. The peer panel shall rate the proposals using the evaluation criteria and scores provided above. Scores from each peer panelist shall be averaged for each application and presented to the program officers. No consensus advice will be given by the independent peer mail review or the review panel. The program officers will neither vote or score proposals as part of the independent peer panel nor participate in discussion of the merits of the proposal. Those proposals receiving an average panel score of ``Fair'' or ``Poor'' will not be given further consideration, and proposers will be notified of non selection. For the proposals rated by the panel as either “Excellent,” “Very Good,” or “Good”, the program officers will (a) select the proposals to be recommended for funding according to the averaged ratings, and/or by applying the project selection factors listed below; (b) determine the total duration of funding for each proposal; and (c) determine the amount of funds available for each proposal subject to the availability of fiscal year funds. Awards may not necessarily be made in rank order. In addition, proposals rated by the panel as either “Excellent,” “Very Good,” or “Good” that are not funded in the current fiscal period, may be considered for funding in another fiscal period without having to repeat the competitive, review process. Proposals recommended for funding by the Program Officers are then forwarded to the NMFS selecting official and/or NSF Ocean Sciences Division Director for the final funding recommendations. Final recommendations are based upon the reviewer/program officer recommendations, project funding priorities and availability of funds. Final decisions for all recommended proposals will be made within the Grants Divisions at NOAA and NSF. At the conclusion of the review process, the NOAA Program Officer and the NSF Biological Oceanography Program Officer will notify lead proposers for those projects recommended for support, and negotiate revisions in the proposed work and budget. All proposals selected for funding by NSF will be required to be resubmitted to NSF's FastLane system. Final awards will be issued by the agency responsible for a specific project after receipt and processing of any specific materials required by the agency. Investigators may be asked to modify objectives, work plans or budgets, and provide supplemental information required by the agency prior to the award. When a decision has been made (whether an award or declination), verbatim anonymous copies of reviews and summaries of review panel deliberations, if any, will be made available to the proposer. Declined applications will be held by NOAA for 3 years in accordance with the current retention requirements, and then destroyed.

SELECTION FACTORS FOR PROJECTS:

The Selecting Official shall award in the rank order unless the proposal is justified to be selected out of rank order based on one or more of the following factors: 1. Availability of funding 2. Balance and distribution of funds (by research area, project type, type of institutions, type of partners, geographical location) 3. Duplication of other projects funded or considered for funding by NOAA/NSF. 4. FY2010 Program Priorities (listed above under Program Priorities, and in Section I.B. of the FFO) 5. Applicant's prior award performance. 6. Partnerships with/Participation of targeted groups. 7. Adequacy of information necessary to make a National Environmental Policy Act (NEPA) determination and draft necessary documentation before recommendations for funding are made.

INTERGOVERNMENTAL REVIEW:

Applications under this program are not subject to Executive Order 12372, Intergovernmental Review of Federal Programs.

LIMITATION OF LIABILITY:

In no event will NOAA, the Department of Commerce, or NSF be responsible for proposal preparation costs if these programs fail to receive funding or are cancelled because of other agency priorities. Publication of this announcement does not oblige NOAA or NSF to award any specific project or to obligate any available funds.

NATIONAL ENVIRONMENTAL POLICY ACT (NEPA):

NOAA must analyze the potential environmental impacts, as required by the National Environmental Policy Act (NEPA), for applicant projects or proposals which are seeking NOAA federal funding opportunities. Detailed information on NOAA compliance with NEPA can be found at the following NOAA NEPA website: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

THE DEPARTMENT OF COMMERCE PRE-AWARD NOTIFICATION REQUIREMENTS FOR GRANTS AND COOPERATIVE AGREEMENTS:

The Department of Commerce Pre-Award Notification Requirements for Grants and Cooperative Agreements contained in the Federal Register notice of February 11, 2008 (73 FR 7696), are applicable to this solicitation.

PAPERWORK REDUCTION ACT:

This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001. Notwithstanding any other provision of law, no person is required to, nor shall a person be subject to a penalty for failure to comply with, a collection of information subject to the requirements of the PRA unless that collection of information displays a currently valid OMB control number.

EXECUTIVE ORDER 12866:

This notice has been determined to be not significant for purposes of Executive Order 12866.

EXECUTIVE ORDER 13132 (FEDERALISM):

It has been determined that this notice does not contain policies with Federalism implications as that term is defined in Executive Order 13132.

ADMINISTRATIVE PROCEDURE ACT/REGULATORY FLEXIBILITY ACT:

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: June 29, 2009.
Steven A. Murawski, Ph.D.
NOAA Fisheries, Chief Scientific Advisor, Director of Scientific Programs.

Dated: June 30, 2009.
Phillip R. Taylor
Section Head, Ocean Section, Division of Ocean Sciences, National Science Foundation.

[FR Doc. E9-15960 Filed 7-6-09; 8:45 am]

BILLING CODE 3510-22-S